DEPARTMENT OF TRANSPORTATION

Federal Railroad Administration

[Docket No. FRA-2012-0006-N-9]

Notice and request for comments

AGENCY: Federal Railroad Administration (FRA), Department of Transportation (DOT).

ACTION: Notice and request for comments.

SUMMARY: In compliance with the Paperwork Reduction Act of 1995, this notice announces that the Information Collection Requirements (ICRs) abstracted below have been forwarded to the Office of Management and Budget (OMB) for review and comment. The ICRs describe the nature of the information collections and their expected burdens. The Federal Register notice with a 60-day comment period soliciting comments on the following collections of information was published on June 20, 2012, volume 77, page number 119.

DATES: Comments must be submitted on or before September 21, 2012.

FOR FURTHER INFORMATION CONTACT: Ms. Janet Wylie, Office of Planning and Administration, RPD-3, Federal Railroad Administration, 1200 New Jersey Ave. SE., Mail Stop 20, Washington, DC 20590 (telephone: (202) 493-6353), or Ms. Kimberly Toone, Office of Information Technology, RAD-20, Federal Railroad Administration, 1200 New Jersey Ave. SE., Mail Stop 35, Washington, DC 20590 (telephone: (202) 493-6132). (These telephone numbers are not toll-free.).

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On June 20, 2012, FRA published a 60-day notice in the Federal Register soliciting comments on ICR that the agency was seeking OMB approval. 77 FR 37092. FRA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507(b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The revised requirements are being submitted for clearance by OMB as required by the PRA.

Title: Notice of Funds Availability and Solicitation of Applications for Grants under the Railroad Rehabilitation and Repair Grant Program.

OMB Control Number: 2130-0580.

Type of Request: Revision of a currently approved collection.

Affected Public: State and local governments, government sponsored authorities and corporations, railroads.

Abstract: The Railroad Rehabilitation and Repair Grant Program (Catalog of Federal Domestic Assistance (CFDA) Program Number 20.314), was originally supported with up to $20,000,000 of Federal funds provided to FRA as part of the Consolidated Security, Disaster Assistance, and Continuing Appropriations Act, 2009 (Pub. L. 110-329, September 30, 2008). On May 27, 2009, FRA selected 12 projects, totaling $15 million under this program. On August 5, 2010, FRA selected 10 more projects for the remaining funds. A few revisions to grant agreements and close-out of grants are the only remaining activities for this program.

Funds provided under this program may constitute no more than 80 percent of the total cost of a selected project, with the remaining cost funded from other non-Federal sources. Projects include repairs and rehabilitation to Class II and Class III railroad infrastructure damaged by hurricanes, floods, and natural disasters that are located in counties that were identified in a Disaster Declaration for Public Assistance issued by the President (http://www.fema.gov/news/disasters.fema#sev1).

Class II and Class III railroad infrastructure repaired and rehabilitated include railroad rights-of-way, bridges, signals and other infrastructure which are part of the general railroad system of transportation and primarily used by railroads to move freight traffic. FRA anticipates that no further public notification will be made with respect to this program.

Form Number(s): N/A.

Annual Estimated Burden Hours: 1,048 hours.

ADDRESSES: Send comments regarding these information collections to the Office of Information and Regulatory Affairs, Office of Management and Budget, 725 Seventeenth Street NW., Washington, DC 20503, Attention: FRA Desk Officer. Alternatively, comments may be sent via email to the Office of Information and Regulatory Affairs (OIRA), Office of Management and Budget, at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on August 15, 2012.
Michael Logue,
Associate Administrator for Administration, Federal Railroad Administration.

[FR Doc. 2012-20628 Filed 8-21-12; 8:45 am]

BILLING CODE 4910-06-P